DEPARTMENT OF VETERANS AFFAIRS

[OMB Control No. 2900-0567]

Agency Information Collection Activity: (Presidential Memorial Certificate Form)

AGENCY: National Cemetery Administration, Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0567.

SUPPLEMENTARY INFORMATION:

Authority: Public Law 104-13; 44 U.S.C. 3501-21.

Title: Presidential Memorial Certificate Form VA form 40-0247.

OMB Control Number: 2900-0567.

Type of Review: Revision of a currently approved collection.

Abstract: The Presidential Memorial Certificate (PMC) is an engraved paper certificate, signed by a current U.S. President, to honor the memory of deceased Veterans who are eligible for burial in a national cemetery. VA Form 40-0247 information collection is required to properly inscribe and address for delivery of the PMC. Supporting military or discharge documents are also needed to verify that the veteran's character of service and duty status meet program eligibility and legal requirements. NCA is updating Form VA 40-0247 to include personal information necessary for statistical data gathering, targeted outreach and utilization trend analysis.

An agency may not conduct or sponsor, and a person is not required to respond to a collection of information unless it displays a currently valid OMB control number. The Federal Register Notice with a 60-day comment period soliciting comments on this collection of information was published at Volume, 85, No. 97 on Tuesday, May 19, 2020, page 30023.

Affected Public: Individuals or Households.

Estimated Annual Burden: 6,250 hours.

Estimated Average Burden per Respondent: 3 minutes.

Frequency of Response: One-time.

Estimated Number of Respondents: 125,000.

By direction of the Secretary.
Danny S. Green,
Department Clearance Officer, Office of Quality, Performance and Risk, Department of Veterans Affairs.

[FR Doc. 2020-16384 Filed 7-28-20; 8:45 am]

BILLING CODE 8320-01-P